OFFICE OF PERSONNEL MANAGEMENT

5 CFR Part 532

RIN 3206-AJ79

Prevailing Rate Systems; Change in Federal Wage System Survey Job

AGENCY: Office of Personnel Management.

ACTION: Final rule.

SUMMARY: The Office of Personnel Management is issuing a final rule to create a Federal Wage System appropriated fund optional survey job of Electronic Industrial Controls Mechanic, WG-11. The new title and grade level will best reflect the occupational title and the level of work used by private industry.

DATES: Effective Date: This regulation is effective on June 14, 2004.

FOR FURTHER INFORMATION CONTACT: Madeline Gonzalez at (202) 606-2838; FAX at (202) 606-4264; or e-mail at pay-performance-policy@opm.gov.

SUPPLEMENTARY INFORMATION: On August 12, 2003, the Office of Personnel Management (OPM) published a proposed rule (68 FR 47877) to change the title and grade level of the Federal Wage System (FWS) appropriated fund optional survey job, Industrial Electronic Controls Repairer. Since the new title and grade level closely reflect the occupational title and level of work used by private industry, the Department of Defense may be able to collect more private sector wage data for the occupation. The proposed rule had a 30-day comment period, during which we received no comments.

The Federal Prevailing Rate Advisory Committee (FPRAC) established a Survey Job Work Group (SJWG) to review FWS survey job descriptions. The SJWG recommended that OPM change the title of the optional survey job, “Industrial Electronic Controls Repairer” to “Electronic Industrial Controls Mechanic” because the new title conforms to the title of the FWS job grading standard for the occupation and corresponds to the title typically used by private industry. The SJWG also recommended that OPM change the grade level from WG-10 to WG-11 because the new grade level better reflects the level of work currently done by Federal blue-collar employees. FPRAC agreed with its working group and recommended that OPM make these changes.

Executive Order 12866 Regulatory Review

This rule has been reviewed by the Office of Management and Budget in accordance with Executive Order 12866.

Regulatory Flexibility Act

I certify that this regulation would not have a significant economic impact on a substantial number of small entities because it would affect only Federal agencies and employees.

List of Subjects in 5 CFR Part 532

Administrative practice and procedure, Freedom of information, Government employees, Reporting and recordkeeping requirements, Wages.

Office of Personnel Management.
Kay Coles James,
Director.

Accordingly, the Office of Personnel Management is amending 5 CFR part 532 as follows:

PART 532—PREVAILING RATE SYSTEMS

1. The authority citation for part 532 continues to read as follows:

Authority: 5 U.S.C. 5343, 5346; § 532.707 also issued under 5 U.S.C. 552.

532.217 [Amended]

2. In § 532.217 paragraph (c) table is amended by removing the job title entry “Industrial Electronic Controls Repairer”, and its corresponding job grade “10”, and adding in its place “Electronic Industrial Controls Mechanic”, grade “11.”

[FR Doc. 04-10869 Filed 5-12-04; 8:45 am]

BILLING CODE 6325-39-P